DEPARTMENT OF ENERGY

Federal Energy Regulatory Commission

Combined Notice of Filings #1

October 9, 2009.

Take notice that the Commission received the following electric corporate filings:

Docket Numbers: EC10-2-000.

Applicants: Allegheny Energy Supply Company, LLC.

Description: Application for Authorization under Section 203 of the Federal Power Act and Request for Waivers and Expedited Action of Allegheny Energy Supply Company, LLC.

Filed Date: 10/07/2009.

Accession Number: 20091007-5089.

Comment Date: 5 p.m. Eastern Time on Wednesday, October 28, 2009.

Take notice that the Commission received the following exempt wholesale generator filings:

Docket Numbers: EG10-1-000.

Applicants: Gilberton Power Company.

Description: Self Certification Notice of Gilberton Power Company.

Filed Date: 10/08/2009.

Accession Number: 20091008-5049.

Comment Date: 5 p.m. Eastern Time on Thursday, October 29, 2009.

Docket Numbers: EG10-2-000.

Applicants: CPV Keenan II Renewable Energy Company,

Description: Notice of Self-Certification of Exempt Wholesale Generator Status of CPV Keenan II Renewable Energy Company, LLC.

Filed Date: 10/08/2009.

Accession Number: 20091008-5043.

Comment Date: 5 p.m. Eastern Time on Thursday, October 29, 2009.

Docket Numbers: EG10-3-000.

Applicants: Vantage Wind Energy LLC.

Description: Notice of Self-Certification of Exempt Wholesale Generator Status of Vantage Wind Energy LLC.

Filed Date: 10/09/2009.

Accession Number: 20091009-5035.

Comment Date: 5 p.m. Eastern Time on Friday, October 30, 2009.

Take notice that the Commission received the following electric rate filings:

Docket Numbers: ER97-3359-011; ER98-3566-016; ER01-2074-008.

Applicants: Florida Power & Light Company; FPL Energy Power Marketing, Inc.; Calhoun Power Company 1, LLC.

Description: FPL Companies Supplement to the September 2, 2008 Southeast Region Market Power Update.

Filed Date: 10/07/2009.

Accession Number: 20091007-5098.

Comment Date: 5 p.m. Eastern Time on Wednesday, October 28, 2009.

Docket Numbers: ER08-1178-005; EL08-88-006.

Applicants: California Independent System Operator Corporation.

Description: The California Independent System Operator submits Substitute Original Sheet 643A et al. to FERC Electric Tariff, Fourth Replacement Volume 1.

Filed Date: 10/02/2009.

Accession Number: 20091005-0083.

Comment Date: 5 p.m. Eastern Time on Friday, October 23, 2009.

Docket Numbers: ER08-1297-003; ER01-1071-014; ER08-1294-003; ER03-1103-005; ER03-1104-010; ER03-1105-010; ER03-34-013; ER06-1261-008; ER06-1392-006; ER06-9-009; ER07-174-008; ER08-1293-003; ER08-1296-003; ER08-1300-003; ER08-197-007; ER08-250-004; ER09-832-001; ER09-988-002; ER09-989-002; ER98-2076-016; ER98-4222-015.

Applicants: Ashtabula Wind, LLC; Badger Windpower LLC; Crystal Lake Wind II, LLC; FPL Energy South Dakota Wind, LLC; FPL Energy North Dakota Wind, LLC; FPL Energy North Dakota Wind, LLC; FPL Energy Hancock County Wind, LLC; FPL Energy Mower County, LLC; FPL Energy Oliver Wind, LLC; FPL Energy Burleigh County Wind, LLC; Osceola Windpower, LLC; Crystal Lake Wind, LLC; Osceola Windpower II, LLC; Story Wind, LLC; FPL Energy Oliver Wind II, LLC; Langdon Wind, LLC; NextEra Energy Power Marketing, LLC; NextEra Energy Duane Arnold, LLC; NextEra Energy Point Beach, LLC; Hawkeye Power Partners, LLC; Lake Benton Power Partners II LLC.

Description: NextEra Energy Resources, LLC Amendment to Asset Appendix B.

Filed Date: 10/07/2009.

Accession Number: 20091007-5054.

Comment Date: 5 p.m. Eastern Time on Wednesday, October 28, 2009.

Docket Numbers: ER09-938-003.

Applicants: Central Maine Power Company.

Description: Northeast Utilities Service Company et al. submits transmittal letter and proposed revision to Attachment F, Annual Transmission Revenue Requirements, of the OATT in compliance with the Commission's 8/7/09.

Filed Date: 10/06/2009.

Accession Number: 20091007-0082.

Comment Date: 5 p.m. Eastern Time on Tuesday, October 27, 2009.

Docket Numbers: ER09-1102-002.

Applicants: Midwest Independent Transmission System Operator, Inc.

Description: Midwest Independent Transmission System Operator, Inc. submits an amendment to its 6/26/09 filing and the corrected Amended and Restated Interconnection and Operating Agreement etc.

Filed Date: 10/08/2009.

Accession Number: 20091008-0201.

Comment Date: 5 p.m. Eastern Time on Thursday, October 29, 2009.

Docket Numbers: ER09-1146-003.

Applicants: Lafarge Midwest, Inc.

Description: Lafarge Midwest, Inc. submits a Refund Report.

Filed Date: 10/07/2009.

Accession Number: 20091007-5095.

Comment Date: 5 p.m. Eastern Time on Wednesday, October 28, 2009.

Docket Numbers: ER09-1317-001.

Applicants: New York Independent System Operator, Inc.

Description: New York Independent System Operator, Inc. submits Substitute Ninth Revised Sheet No. 8 et al. to FERC Electric Tariff, Original Volume No. 1, effective 9/17/09.

Filed Date: 10/07/2009.

Accession Number: 20091008-0241.

Comment Date: 5 p.m. Eastern Time on Wednesday, October 28, 2009.

Docket Numbers: ER09-1421-000; ER09-1428-000.

Applicants: Midwest Independent Transmission System Operator, Inc.; Xcel Energy Operating Companies.

Description: The Midwest Independent Transmission System Operator, Inc. submits responses to information requested in the FERC 9/3/09 letter.

Filed Date: 10/05/2009.

Accession Number: 20091007-0052.

Comment Date: 5 p.m. Eastern Time on Monday, October 26, 2009.

Docket Numbers: ER09-1421-000; ER09-1428-000.

Applicants: Midwest Independent Transmission System Operator, Inc.; Xcel Energy Operating Companies.

Description: Northern States Power Company submits supplemental information requested in the Commission's 9/3/09 letter order.

Filed Date: 10/05/2009.

Accession Number: 20091008-0272.

Comment Date: 5 p.m. Eastern Time on Monday, October 26, 2009.

Docket Numbers: ER09-1435-001.

Applicants: Midwest Independent Transmission System Operator, Inc.

Description: Midwest Independent Transmission System Operator, Inc. submits First Revised Sheet 2280V et al. to FERC Electric Tariff, Fourth Revised Volume 1.

Filed Date: 10/08/2009.

Accession Number: 20091009-0039.

Comment Date: 5 p.m. Eastern Time on Thursday, October 29, 2009.

Docket Numbers: ER10-33-000.

Applicants: Southwest Power Pool, Inc.

Description: Southwest Power Pool, Inc. submits Meter Agent Services Agreement between Kansas Power Pool and Westar Energy, Inc.

Filed Date: 10/05/2009.

Accession Number: 20091006-0017.

Comment Date: 5 p.m. Eastern Time on Monday, October 26, 2009.

Docket Numbers: ER10-36-000.

Applicants: Pacific Gas and Electric Company.

Description: Pacific Gas and Electric Company submits transmission revenue balancing account adjustment rate reliability services rates and end-use customer refund adjustment rates.

Filed Date: 10/06/2009.

Accession Number: 20091007-0154.

Comment Date: 5 p.m. Eastern Time on Tuesday, October 27, 2009.

Docket Numbers: ER10-37-000.

Applicants: Idaho Power Company.

Description: Idaho Power Company submits the Exchange Agreement with Clatskanie People's Utility District.

Filed Date: 10/08/2009.

Accession Number: 20091008-0281.

Comment Date: 5 p.m. Eastern Time on Thursday, October 29, 2009.

Docket Numbers: ER10-38-000.

Applicants: PJM Interconnection, LLC.

Description: PJM Interconnection, LLC submits amendments to Schedule 12 of the Amended and Restated Operating Agreement to update the PJM Member List to include new member, delete withdrawing members etc.

Filed Date: 10/08/2009.

Accession Number: 20091008-0280.

Comment Date: 5 p.m. Eastern Time on Thursday, October 29, 2009.

Docket Numbers: ER10-39-000.

Applicants: PJM Interconnection, LLC.

Description: PJM Interconnection, LLC submits notice of cancellation of an interim interconnection service agreement between PJM, Streator-Cayuga Ridge Wind Power LLC and Commonwealth Edison Company.

Filed Date: 10/08/2009.

Accession Number: 20091008-0279.

Comment Date: 5 p.m. Eastern Time on Thursday, October 29, 2009.

Docket Numbers: ER10-40-000.

Applicants: PacifiCorp.

Description: PacifiCorp submits Second Revised Sheet 47 et al. to Second Revised Rate Schedule FERC 280.

Filed Date: 10/08/2009.

Accession Number: 20091009-0041.

Comment Date: 5 p.m. Eastern Time on Thursday, October 29, 2009.

Docket Numbers: ER10-41-000.

Applicants: North Western Corporation.

Description: North Western Corporation submits Rate Schedule 37 et al. with East River Electric Power Cooperative, Inc.

Filed Date: 10/08/2009.

Accession Number: 20091009-0040.

Comment Date: 5 p.m. Eastern Time on Thursday, October 29, 2009.

Take notice that the Commission received the following electric securities filings:

Docket Numbers: ES10-2-000.

Applicants: Trans-Allegheny Interstate Line Company.

Description: Section 204 Application of Trans-Allegheny Interstate Line Company.

Filed Date: 10/08/2009.

Accession Number: 20091008-5057.

Comment Date: 5 p.m. Eastern Time on Thursday, October 29, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. E9-25087 Filed 10-19-09; 8:45 am]

BILLING CODE 6717-01-P